DEPARTMENT OF TRANSPORTATION

Federal Aviation Administration

14 CFR Part 71

[Docket No. FAA-2013-0993; Airspace Docket No. 13-ASW-28]

Proposed Establishment of Class E Airspace; Tucumcari, NM

AGENCY: Federal Aviation Administration (FAA), DOT.

ACTION: Notice of proposed rulemaking (NPRM), withdrawal.

SUMMARY: This action withdraws the NPRM published in the Federal Register on December 20, 2013. In that action, the FAA proposed to establish Class E airspace at the Tucumcari VORTAC, Tucumcari, NM. The FAA has determined that withdrawal of the NPRM is warranted as a result of objections raised during the comment period.

DATES: As of December 2, 2014, the proposed rule published December 20, 2013, at 78 FR 77023, is withdrawn.

FOR FURTHER INFORMATION CONTACT: Raul Garza, Jr., Central Service Center, Operations Support Group, Federal Aviation Administration, Southwest Region, 2601 Meacham Blvd., Fort Worth, TX 76137; telephone: 817-321-7654.

SUPPLEMENTARY INFORMATION: On December 20, 2013, a NPRM was published in the Federal Register (78 FR 77023) to amend Title 14 Code of Federal Regulations (14 CFR) part 71 to establish Class E Airspace extending upward from 1,200 feet above the surface at the Tucumcari VHF Omni-Directional Radio Range Tactical Air Navigation Aid (VORTAC) Tucumcari, NM, to contain aircraft while in Instrument Flight Rules conditions under control of Albuquerque Air Route Traffic Control Center by vectoring aircraft from en route airspace to terminal areas. As a result of objections that were raised during the comment period, the NPRM is being withdrawn. A new NPRM will be forthcoming.

List of Subjects in 14 CFR part 71

Airspace, Incorporation by reference, Navigation (air).

The Withdrawal

Accordingly, pursuant to the authority delegated to me, the Notice of Proposed Rulemaking,, as published in the Federal Register of December 20, 2013 (78 FR 77023) (FR Doc. 2013-30339), is hereby withdrawn.

Authority: 49 U.S.C. 106(g), 40103, 40113, 40120; E.O. 10854; 24 FR 9565, 3 CFR, 1959-1963 Comp., p. 389.

Issued in Fort Worth, TX, on November 20, 2014.
Walter Tweedy,
Manager, Operations Support Group, ATO Central Service Center.

[FR Doc. 2014-28230 Filed 12-1-14; 8:45 am]

BILLING CODE 4910-14-P